DEPARTMENT OF LABOR

Employment and Training Administration

[TA-W-39,313]

Lynn Electronics, Feasterville, PA; Notice of Affirmative Determination Regarding Application for Reconsideration

By application dated August 1, 2001, a petitioner requested administrative reconsideration of the Department's negative determination regarding eligibility to apply for Trade Adjustment Assistance (TAA), applicable to workers and former workers of the subject firm. The denial notice was signed on July 9, 2001, and published in the Federal Register on July 26, 2001 (66 FR 39055).

Petitioner provides evidence that further survey is warranted regarding customer purchases of communications wire products.

Conclusion

After careful review of the application, I conclude that the claim is of sufficient weight to justify reconsideration of the Department of Labor's prior decision. The application is, therefore, granted.

Signed at Washington, DC, this 5th day of September 2001.
Edward A. Tomchick,
Director, Division of Trade Adjustment Assistance.

[FR Doc. 01-23525 Filed 9-20-01; 8:45 am]

BILLING CODE 4510-30-M